POSTAL SERVICE

39 CFR Part 111

Priority Mail® Large Flat-Rate Box—Domestic APO/FPO

AGENCY: Postal Service™.

ACTION: Final rule.

SUMMARY: This final rule revises the Mailing Standards of the United States Postal Service, Domestic Mail Manual (DMM®), to add the new Priority Mail® Large Flat-Rate Box that has been approved by the Board of Governors of the United States Postal Service.

The new Priority Mail large flat-rate box is approximately 50 percent larger than the regular flat-rate boxes currently available. The prices for shipping a Priority Mail large flat-rate box to an APO/FPO ZIP Code™ destination address, or to a domestic ZIP Code address are as follows:

• $10.95 to APO/FPO destination addresses.

• $12.95 to domestic addresses.

The new flat-rate box is identified by the words “Large Flat-Rate Box” printed on the packaging.

Items to an APO/FPO address may be shipped in the Priority Mail large flat-rate box or in a special version of the box identified with the additional logo: “Americasupportsyou.mil.”

The Priority Mail large flat-rate box also may be used for mailing to international destinations at large flat-rate box prices specific to international items.

Domestic or international large flat-rate box prices will apply to the special version of the APO/FPO flat-rate box if used for non-APO/FPO addresses.

DATES: Effective Date: March 3, 2008.

FOR FURTHER INFORMATION CONTACT: Christy Bonning, 202-268-2108, or Garry Rodriguez, 202-268-7281, United States Postal Service.

SUPPLEMENTARY INFORMATION: The Postal Service first approved the Priority Mail flat-rate box as an experiment more than three years ago. Board of Governors' Decision, Docket No. MC 2004-2 (October 29, 2004). Subsequently, a permanent classification for the flat-rate box was approved as part of the R2006-1 omnibus rate case.

The Priority Mail flat-rate box has been a big success and has proven to provide value to customers in the form of convenience and ease of use.

This success suggested a market for a larger Priority Mail flat-rate box. Such an offering would enhance customer choice, convenience, and ease of use. Accordingly, the Postal Service is offering a new, Priority Mail large flat-rate box.

The new boxes are approximately 50 percent larger than the regular flat-rate boxes currently available. The dimensions are 12¼″ x 12¼″ x 6″ exterior, and 12″ x 12″ x 5½″ interior.

The weight restriction for the large flat-rate box is 70 pounds to APO/FPO and domestic destinations and 20 pounds to International destinations.

The lower rate for APO/FPO destinations provides an opportunity for the Postal Service to show support for American troops stationed abroad and their families.

The new Priority Mail large flat-rate box will be available for order online at USPS.com and in most post offices nationwide.

The Postal Service adopts the following changes to Mailing Standards of the United States Postal Service, Domestic Mail Manual (DMM), which is incorporated by reference in the Code of Federal Regulations. See 39 CFR part 111.

List of Subjects in 39 CFR Part 111

Administrative practice and procedure, Postal Service.

Accordingly, 39 CFR part 111 is amended as follows:

PART 111—[AMENDED]

1. The authority citation for 39 CFR part 111 is revised to read as follows:

Authority: 5 U.S.C. 552(a); 39 U.S.C. 101, 401, 403, 404, 414, 416, 3001-3011, 3201-3219, 3403-3406, 3621, 3626, 3632, 3633, and 5001.

2. Revise the following sections of Mailing Standards of the United States Postal Service, Domestic Mail Manual (DMM), as follows:

* * * * *

100 Retail Mail Letters, Cards, Flats, and Parcels

* * * * *

120 Priority Mail

123 Rates and Eligibility

1.0 Priority Mail Rates and Fees

[Delete 1.1 in its entirety. Renumber current 1.2 through 1.10 as new 1.1 through 1.9.]

[Revise the heading of renumbered 1.1 as follows:]

1.1 Rate Application

* * * * *

1.2 Minimum Rate for Parcels to Zones 1-4

* * * * *

Exhibit 1.2 Priority Mail Rates

* * * * *

[Revise footnote number 2 to reflect new numbering:]

2. Parcels addressed for delivery to zones 5-8 that exceed 1 cubic foot (1,728 cubic inches) are charged based on the actual weight (under 1.1), or the dimensional weight (as calculated in 1.3.1 or 1.3.2), whichever is greater.

* * * * *

[Revise footnote number 5 to add new flat-rate box as follows:]

5. Priority Mail flat-rate boxes provided by the USPS, regardless of weight or destination:

• $8.95 is charged for material sent in Priority Mail regular flat-rate boxes (FRB-2) or (FRB-1) to domestic and APO/FPO addresses.

• $10.95 is charged for material sent in a Priority Mail large flat-rate box to APO/FPO destination addresses.

• $12.95 is charged for material sent in a Priority Mail large flat-rate box to domestic destinations.

* * * * *

[Revise the heading of renumbered 1.4 as follows:]

1.4 Flat-Rate Envelopes and Boxes

* * * * *

[Reverse the order of renumbered 1.4.1 and 1.4.2.]

* * * * *

[Revise renumbered 1.4.2 as follows:]

1.4.2 Flat-Rate Boxes—Rates and Eligibility

Each USPS-produced Priority Mail flat-rate box, regardless of the actual weight of the piece or its destination, is charged:

a. $8.95 for material sent in Priority Mail regular flat-rate boxes (FRB-2) or (FRB-1) to domestic and APO/FPO addresses.

b. $10.95 for material sent in a Priority Mail large flat-rate box to APO/FPO destination addresses (see 703.2).

c. $12.95 for material sent in a Priority Mail large flat-rate box to domestic destinations.

Items to an APO/FPO address may be shipped in the Priority Mail large flat-rate box or in a special version of the box identified with the additional logo: “Americasupportsyou.mil.” If the special version of the APO/FPO flat-rate box is used for non-APO/FPO addresses, the domestic or international large flat-rate box prices will apply. Only USPS-produced flat-rate boxes are eligible for the flat-rate box prices.

* * * * *

700 Special Standards

703 Nonprofit Standard Mail and Other Unique Eligibility

* * * * *

2.0 Overseas Military Mail

2.1 Basic Standards

* * * * *

[Renumber current 2.1.2 through 2.1.6 as new 2.1.3 through 2.1.7 and add new 2.1.2 as follows:]

2.1.2 APO/FPO Priority Mail Large Flat-Rate Box

A USPS-produced APO/FPO Priority Mail large flat-rate box sent to an APO/FPO destination address, regardless of the actual weight of the piece, is charged $10.95. Items to an APO/FPO address may be shipped in a special version of the box identified with the additional logo: “Americasupportsyou.mil.” If the special version of the APO/FPO flat-rate box is used for non-APO/FPO addresses, the domestic or international large flat-rate box prices will apply. Articles mailed to an APO/FPO address in one of the regular flat-rate boxes (FRB-1 or FRB-2) are charged $8.95. Only USPS-produced flat-rate boxes are eligible for the flat-rate box prices.

* * * * *

Neva R. Watson,
Attorney, Legislative.

[FR Doc. E8-1780 Filed 1-31-08; 8:45 am]

BILLING CODE 7710-12-P